DEPARTMENT OF ENERGY

Federal Energy Regulatory Commission

Notice of Revocation of Market-Based Rate Tariff

| Docket Nos.
Electric Quarterly Reports | ER02-2001-020
Niagara Generation, LLC | ER10-3154-000
C2K Energy, LLC | ER14-1751-001
Castlebridge Energy Group LLC | ER11-4629-000
Intercom Energy, Inc. | ER11-125-000
Chesapeake Renewable Energy LLC | ER13-28-001

On November 20, 2017, the Commission issued an order announcing its intent to revoke the market-based rate authority of the public utilities listed in the caption of that order, which had failed to file their required Electric Quarterly Reports.¹ The Commission directed those public utilities to file the required Electric Quarterly Reports within 15 days of the date of issuance of the order or face revocation of their authority to sell power at market-based rates and termination of their electric market-based rate tariffs.²

¹ Electric Quarterly Reports, 161 FERC ¶ 61,208 (2017) (November 20 Order).

² Id. at Ordering Paragraph A.

The time period for compliance with the November 20 Order has elapsed. The above-captioned companies failed to file their delinquent Electric Quarterly Reports. The Commission hereby revokes the market-based rate authority and terminates the electric market-based rate tariff of each of the companies who are named in the caption of this order.

Dated: December 19, 2017.
Kimberly D. Bose,
Secretary.

[FR Doc. 2017-27730 Filed 12-22-17; 8:45 am]

BILLING CODE 6717-01-P